CORPORATION FOR NATIONAL AND COMMUNITY SERVICE

Agency Information Collection Activities; Submission to the Office of Management and Budget for Review and Approval; Comment Request; Application Package for Data Collection Instruments for AmeriCorps NCCC Impact Studies

AGENCY: Corporation for National and Community Service.

ACTION: Notice of information collection; request for comment.

SUMMARY: The Corporation for National and Community Service (CNCS) has submitted a public information collection request (ICR) entitled Data Collection Instruments for AmeriCorps NCCC Impact Studies for review and approval in accordance with the Paperwork Reduction Act.

DATES: Comments may be submitted, identified by the title of the information collection activity, by August 2, 2019.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Laura Qin, at 202-606-6767 or by email to lqin@cns.gov. Individuals who use a telecommunications device for the deaf (TTY-TDD) may use our web chat for alternative communication: www.NationalService.gov/contact-us.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on 05/03/2019 at FR Volume 84, Number 86, Page 19056. This comment period ended July 2, 2019. 0 public comments were received from this Notice.

Title of Collection: Data Collection Instruments for AmeriCorps NCCC Impact Studies.

OMB Control Number: TBD. Type of Review: New.

Respondents/Affected Public: Individuals.

Total Estimated Number of Annual Responses: 2,553.

Total Estimated Number of Annual Burden Hours: 1,000.

Abstract: The purpose of this new information collection is to gather data for the upcoming National Civilian Conservation Corps (NCCC) impact studies. The studies intend to assess the performance and impact of NCCC programs on members and communities served by the program. In particular, the studies will investigate three main components of NCCC:

1. The impact of NCCC on developing leaders

2. The impact of NCCC on strengthening communities

3. Retention at the different phases of the program, from application to completion

Dated: June 26, 2019.
Laura Qin,
Research Analyst, Office of Research and Evaluation.

[FR Doc. 2019-14220 Filed 7-2-19; 8:45 am]

BILLING CODE 6050-28-P